SMALL BUSINESS ADMINISTRATION

National Small Business Development Center Advisory Board; Public Meeting

The U.S. Small Business Administration, National Small Business Development Center Advisory Board will be hosting a public meeting via conference call on Tuesday, October 17, 2006 at 1 p.m. (EST). The purpose of the meeting is to discuss the recent board meeting at the Houston ASBDC Conference on September 14, 2006, and the “Dialogue with the SBDC State Directors” meeting on September 15, 2006.

Anyone wishing to place an oral presentation to the Board must contact Erika Fischer, Senior Program Analyst, U.S. Small Business Administration, Office of Small Business Development Centers, 409 3rd Street, SW., Washington, DC 20416, telephone (202) 205-7045 or fax (202) 481-0681.

Thomas M. Dryer,
Acting Committee Management Officer.

[FR Doc. E6-16135 Filed 9-29-06; 8:45 am]

BILLING CODE 8025-01-P